DEPARTMENT OF AGRICULTURE

Forest Service

Information Collection; Homeowner Response to Wildfire Hazard Mitigation Incentives: What Works and What Doesn't

AGENCY: Forest Service, USDA.

ACTION: Notice; request for comment.

SUMMARY: In accordance with the Paperwork Reduction Act of 1995, the Forest Service is seeking comments from all interested individuals and organizations on a new information collection, Homeowner Response to Wildfire Hazard Mitigation Incentives: What Works and What Doesn't.

DATES: Comments must be received in writing on or before July 6, 2007 to be assured of consideration. Comments received after that date will be considered to the extent practicable.

ADDRESSES: Comments concerning this notice should be addressed to Lynne M. Westphal, PhD, Project Leader & Research Social Scientist Natural Environments for Urban Populations, Northern Research Station, USDA Forest Service, 1033 University Place, Ste 360, Evanston, IL 60201.

Comments also may be submitted via facsimile to 847-866-9506 or by e-mail to: lwestphal@fs.fed.us.

The public may inspect comments received at Northern Research Station, USDA Forest Service, 1033 University Place, Ste 360, Evanston, IL during normal business hours. Visitors are encouraged to call ahead to 847-866-9311 to facilitate entry to the building.

FOR FURTHER INFORMATION CONTACT: Lynne M. Westphal, PhD, Project Leader & Research Social Scientist Natural Environments for Urban Populations, Northern Research Station, USDA Forest Service, 847-866-9311 extension 11. Individuals who use TDD may call the Federal Relay Service (FRS) at 1-800-877-8339, 24 hours a day, every day of the year, including holidays.

SUPPLEMENTARY INFORMATION: Title: Homeowner Response to Wildfire Hazard Mitigation Incentives: What Works and What Doesn't.

OMB Number: 0596-NEW.

Type of Request: New.

Abstract: The cost of protecting private property in areas near public forests, the wildland-urban interface (WUI), is growing rapidly. Rising costs are largely due to efforts of the Forest Service and other Federal agencies to protect private property, even when the fires pose little threat to public land. The Forest Service would like to find ways to help local communities share responsibility for community fire protection. Some local communities have programs designed to encourage homeowners to create fire-safe landscapes. In this way, these communities and homeowners help protect private property.

The Forest Service is requesting Office of Management and Budget (OMB) approval to study a range of current community programs designed to encourage homeowner participation in wildfire protection. Researchers will collect information from community residents living in high-risk wildfire areas in four communities: Grand Haven, Michigan; Ruidoso, New Mexico; Larimer County, Colorado; and Oakland, California. These sites were chosen based on differences in defensible space policy approaches and wildfire risk levels.

Two researchers (one from a university and one from the Forest Service Northern Research Station) will analyze the data collected. These researchers are experts in applied social psychology and survey research.

A random sample of homeowners who live in high-risk wildfire areas in the four communities will be mailed survey questionnaires. The homeowners will be told that the participation in the survey is voluntary.

Participating homeowners will first complete a questionnaire, sharing perceptions and beliefs about the local wildfire hazard and local government response. Specifically, homeowners will be asked about their knowledge and understanding of local wildfire programs, their own efforts to protect their homes from wildfires, and reasons why they do or do not comply with local wildfire guidelines and laws. In addition, homeowners will be asked for their opinions about the risk of wildfires and the effectiveness and fairness of local wildfire protection programs and programs used by other communities.

This information will assist the Forest Service in its efforts to implement the Healthy Forest Restoration Act by supporting development of Community Wildfire Protection Plans as required under this Act (Pub. L. 108-148). The Agency will use the collected information to help communities develop wildfire protection programs most appropriate for local conditions. Development of programs by local homeowners may increase local support, participation, and compliance with the programs. Local community and homeowner participation in wildfire protection activities are critical components of a comprehensive strategy to protect private property.

Estimate of Annual Burden: 15 minutes.

Type of Respondents: Individuals.

Estimated Annual Number of Respondents: 2,000.

Estimated Annual Number of Responses per Respondent: 1.

Estimated Total Annual Burden on Respondents: 500 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: May 1, 2007.
Ann M. Bartuska,
Deputy Chief, Research and Development.

[FR Doc. E7-8704 Filed 5-4-07; 8:45 am]

BILLING CODE 3410-11-P